DEPARTMENT OF HOUSING AND URBAN DEVELOPMENT

[Docket No. FR-5408-N-03]

Notice of Availability of the Final Environmental Impact Statement for the Yesler Terrace Redevelopment Project

AGENCY: Office of the Assistant Secretary for Community Planning and Development, HUD.

ACTION: Notice.

SUMMARY: The Department of Housing and Urban Development (HUD) gives notice to the public, agencies, and Indian Tribes that the Seattle Housing Authority and the City of Seattle Human Services Department (Community Development Block Grant Administration Unit) have prepared a Final Environmental Impact Statement (FEIS) for the Yesler Terrace Redevelopment Project, located in the City of Seattle, King County, Washington. The project proponent is the Seattle Housing Authority (SHA).

The FEIS is a joint National Environmental Policy Act (NEPA) and Washington State Environmental Policy Act (SEPA) document. The proposed action is subject to compliance with NEPA because funds from the public housing programs under Title I of the United States Housing Act of 1937 (HOPE VI, Capital Funds, Demolition/Disposition) will be used for this project (24 CFR 58.1(b)(6)(i)). This notice is given in accordance with Council on Environmental Quality regulations at 40 CFR parts 1500-1508, and with state and local SEPA regulations.

The City of Seattle Human Services Department (City HSD) and SHA, acting jointly as lead agencies, have prepared the FEIS under the authority of the City HSD as the Responsible Entity for compliance with NEPA in accordance with 42 U.S.C. 1437x and HUD regulations at 24 CFR 58.4, and under SHA's role as SEPA lead agency.

SEPA Compliance and Action: The FEIS satisfies requirements of SEPA (RCW 43.21C and WAC 197-11), which requires that all state and local government agencies consider the environmental impacts of projects before acting on those projects. Under SEPA, it is anticipated that the SHA Board of Commissioners will adopt a resolution approving a Development Plan for Yesler Terrace, and adopting the FEIS for SEPA purposes. Prior to Board action, the public is welcome to comment on the proposed project by mailing, faxing, or e-mailing comments to: Stephanie Van Dyke, Development Director of the Seattle Housing Authority, YTEISComments@seattlehousing.org, P.O. Box 19028, Seattle, WA 98109-1028, (f) 206-615-3539.

NEPA Comment Period: NEPA provides for a 30-day comment period on the FEIS. All interested Federal, state, and local agencies, Indian Tribes, groups, and the public are invited to comment on the FEIS. Comments relating to the FEIS will be accepted until June 9, 2011. Any person or agency wishing to comment on the FEIS may mail, fax, or e-mail comments to: Kristen Larson, Project Funding and Agreements Coordinator, City of Seattle Human Services Department, CDBG Administration Unit, Kristen.Larson@seattle.gov, P.O. Box 34215, Seattle, WA 98124-4215, (f) 206-621-5003.

SUPPLEMENTARY INFORMATION:

Project Name and Description

The FEIS analyzes the environmental impacts of the proposed phased redevelopment of the Yesler Terrace community to a mixed-use residential community on an approximately 39-acre area on the southern slope of First Hill in Seattle, Washington. The proposed project is generally bounded by Interstate 5 on the west, Alder and Fir Streets on the north, 14th Avenue on the east, and Main Street on the south.

The proposed project would include development of a mix of affordable and market-rate housing, office and retail uses, as well as parks and open space, enhanced landscaping, improved streets and a system of pedestrian and bike improvements. All existing residential structures on the site would be demolished under the Proposed Action; other structures on the site may also be demolished. The existing Yesler Terrace community center would be retained. It is anticipated that the redevelopment of Yesler Terrace will take approximately 15 to 20 years to complete.

The proposed actions may involve the following: Comprehensive Plan Amendment, text amendment to the Land Use Code to allow a new zone for Yesler Terrace, street vacation, preliminary and final plat approval, adoption of a Planned Action Ordinance, Development Agreement approval, other construction and building permits, and other Federal, state and local approvals for redevelopment of the Yesler Terrace community.

For additional background information on the project, please see the SHA Web site: http://www.seattlehousing.org/redevelopment/yesler-terrace/.

Alternatives

SHA proposes to redevelop the Yesler Terrace community into a mixed-use, mixed income community. The FEIS evaluates the environmental impacts of seven alternatives, including a preferred alternative and a no-action alternative. The preferred alternative identified in the FEIS would include approximately 5,000 housing units; 900,000 square feet (SF) of office/hotel use; 88,000 SF of neighborhood commercial; 65,000 SF of neighborhood services (including the existing Yesler Terrace Community Center); 6.5 acres of public open space; 9.4 acres of semi-private and private open space; and 5,100 parking spaces within or under buildings.

The FEIS evaluates the environmental impacts of each of the alternatives based on the following environmental elements: earth; air quality; water; plants and animals; climate change and greenhouse gas emissions; environmental health; noise; land use; relationship to plans and policies; aesthetics, light and glare, and shadows; historic resources; cultural resources; transportation; utilities; public services; socioeconomics; and environmental justice.

The FEIS also responds to all comments received on the Draft EIS.

To obtain a copy of the FEIS, visit http://www.seattlehousing.org/redevelopment/yesler-terrace/eis/index.html, or contact SHA or the City Human Services Department through the persons listed below.

FOR FURTHER INFORMATION CONTACT: Stephanie Van Dyke, Development Director of the Seattle Housing Authority, YTEISComments@seattlehousing.org, P.O. Box 19028, Seattle, WA 98109-1028, (f) 206-615-3539.

Kristen Larson, Project Funding and Agreements Coordinator, City of Seattle Human Services Department, CDBG Administration Unit, Kristen.Larson@seattle.gov, P.O. Box 34215, Seattle, WA 98124-4215, (f) 206-621-5003.

Dated: May 2, 2011.
Mercedes Márquez,
Assistant Secretary for Community Planning and Development.

[FR Doc. 2011-11265 Filed 5-9-11; 8:45 am]

BILLING CODE 4210-67-P